DEPARTMENT OF ENERGY

Federal Energy Regulatory Commission

[Docket No. CP06-37-000]

Trunkline Gas Company, LLC and Gulf South Pipeline Company, LP; Notice of Filing

December 21, 2005.

Take notice that on December 14, 2005, Trunkline Gas Company, LLC (Trunkline Gas), P.O. Box 4967, Houston, Texas 77210-4967, and Gulf South Pipeline Company, LP (Gulf South), 20 East Greenway Plaza, Houston, Texas 77046, filed a joint abbreviated application pursuant to the Natural Gas Act (NGA) and Part 157 of the Commission's Rules and Regulations requesting authorization for Trunkline Gas to abandon by sale and Gulf South to acquire an undivided 38.46 percent interest in 1.7 miles of Trunkline Gas' 2000-1 Lateral and appurtenances located in Calcasieu Parish, Louisiana. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The undivided 38.46 percent ownership is equivalent to 500,000 dekatherms per day of capacity on the 1.7 miles of the 2000-1 Lateral. Trunkline Gas will continue to own 100 percent of the 2000-2 Lateral. Trunkline Gas will remain the operator of the 2001-1 Lateral. Gulf South and Trunkline Gas will be responsible for paying its share of all operating and maintenance expenses in accordance with an Operating Agreement. Shippers will be able to execute transportation service agreements with each respective pipeline owner pursuant to the terms of its tariff up to each pipeline's share of the capacity on the 2000-1 Lateral. The transfer of the ownership from Trunkline Gas to Gulf South costs $1,900,000.

Any questions regarding the application are to be directed to Stephen T. Veatch, Regulatory Affairs, at (713) 989-7000, Trunkline Gas Company, LLC, 5444 Westheimer Road, Houston, Texas 77056 and to J. Kyle Stephens, Director of Certificates for Gulf South Pipeline Company, LP, 20 East Greenway Plaza, Suite 900, Houston, Texas 77046.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: January 11, 2006.

Magalie R. Salas,
Secretary.

[FR Doc. E5-7940 Filed 12-27-05; 8:45 am]

BILLING CODE 6717-01-P